COMMISSION ON CIVIL RIGHTS

Sunshine Act Meeting Notice

AGENCY: United States Commission on Civil Rights.

ACTION: Briefing notice.

DATES: Date and Time: Friday, January 22, 2016; 9:00 a.m.-5:30 p.m. EST.

ADDRESSES: Place: National Place Building, 1331 Pennsylvania Ave. NW., 11th Floor, Suite 1150, Washington, DC 20245.

FOR FURTHER INFORMATION CONTACT: Mauro Morales, Staff Director at Telephone: (202) 376-7700, TTY: (202) 376-8116.

SUPPLEMENTARY INFORMATION: This briefing is open to the public. Please contact the above for call-in information to telephonically attend the briefing. Hearing-impaired persons who will attend the briefing and require the services of a sign language interpreter should contact Pamela Dunston at (202) 376-8105 or at signlanguage@usccr.gov at least seven business days before the scheduled date of the meeting.

During the briefing, Commissioners will ask questions and discuss the briefing topic with the panelists. The public may submit written comments on the topic of the briefing to the above address for 30 days after the briefing. Please direct your comments to the attention of the “Staff Director” and clearly mark “Briefing Comments Inside” on the outside of the envelope. Please note we are unable to return any comments or submitted materials. Comments may also be submitted by email to comments@usccr.gov.

Topic: Briefing on Environmental Justice: Toxic Materials, Poor Economies, and the Impact to Low-Income, Minority Communities; A review of the Environmental Protection Agency's Civil Rights Enforcement of Environmental Justice in the Context of Title VI, E.O. 12,989 and the Coal Ash Rule.

I. Introductory Remarks. 9:00 a.m.

II. Presentations. 9:20 a.m.-9:45 a.m.: Community Leaders and Advocates

Speakers' Remarks

III. Panel I. 9:50 a.m.-11:05 a.m.: Government Officials

Speakers' Remarks and Questions from Commissioners

IV. Panel II. 11:10 a.m.-12:25 p.m.: Health Issues

Speakers' Remarks and Questions from Commissioners

V. LUNCH—12:30 p.m.-1:15 p.m.

VI. Panel III. 1:20 p.m.-2:35 p.m.: Coal Industry Officials

Speakers' Remarks and Questions from Commissioners

VII. Panel IV. 2:40 p.m.-3:55 p.m.: Community Activists and Advocates

Speakers' Remarks and Questions from Commissioners

VIII. Panel V. 4:00 p.m.-5:25 p.m.: Environmental Justice

Speakers' Remarks and Questions from Commissioners

IX. Adjourn Briefing—5:30 p.m.

Dated: January 6, 2016.
David Mussatt,
Chief, Regional Programs Unit.

[FR Doc. 2016-00367 Filed 1-7-16; 11:15 am]

BILLING CODE 6335-01-P